SMALL BUSINESS ADMINISTRATION

[Disaster Declaration #13938 and #13939]

Tennessee Disaster #TN-00079

AGENCY: U.S. Small Business Administration.

ACTION: Notice.

SUMMARY: This is a Notice of the Presidential declaration of a major disaster for Public Assistance Only for the State of Tennessee (FEMA—4171—DR), dated 04/11/2014.

Incident: Severe Winter Storm

Incident Period: 03/02/2014 through 03/04/2014

Effective Date: 04/11/2014

Physical Loan Application Deadline Date: 06/10/2014

Economic Injury (EIDL) Loan Application Deadline Date: 01/12/2015

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street SW., Suite 6050, Washington, DC 20416.

SUPPLEMENTARY INFORMATION: Notice is hereby given that as a result of the President's major disaster declaration on 04/07/2014, Private Non-Profit organizations that provide essential services of governmental nature may file disaster loan applications at the address listed above or other locally announced locations.

The following areas have been determined to be adversely affected by the disaster:

Primary Counties:

Carroll, Cheatham, Dickson, Haywood, Houston, Madison, Shelby, Tipton.

The Interest Rates are:

| Percent
For Physical Damage:
Non-Profit Organizations With Credit Available Elsewhere | 2.625
Non-Profit Organizations Without Credit Available Elsewhere | 2.625
For Economic Injury:
Non-Profit Oranizations Without Credit Available Elsewhere | 2.625

The number assigned to this disaster for physical damage is 13938B and for economic injury is 13939B.

(Catalog of Federal Domestic Assistance Numbers 59002 and 59008)

James E. Rivera,
Associate Administrator for Disaster Assistance.

[FR Doc. 2014-09386 Filed 4-24-14; 8:45 am]

BILLING CODE 8025-01-P